DEPARTMENT OF DEFENSE

Department of the Navy

Notice of Intent To Grant Exclusive Patent License; Cytoplex Biosciences, Inc.

AGENCY: Department of the Navy, DOD.

ACTION: Notice.

SUMMARY: The Department of the Navy hereby gives notice of its intent to grant to Cytoplex Biosciences, Inc., a revocable, nonassignable, exclusive license, to practice in the field of real time monitoring of molecular binding for pharmaceutical drug discovery in the United States and certain foreign countries, the Government-Owned inventions described in U.S. Patent No. 5,372,930: Sensors for Ultra-Low Concentration Molecular Recognition, Navy Case No. 73,568//U.S. Patent No. 5,807,758: Chemical and Biological Sensor Using an Ultra-Sensitive Force Transducer, Navy Case No. 76,628//U.S. Patent No. 5,981,297: Biosensor Using Magnetically-Detected Label, Navy Case No. 77,576//U.S. Patent No. 6,180,418: Force Discrimination Assay, Navy Case No. 78,183.

DATES: Anyone wishing to object to the grant of this license must file written objections along with supporting evidence, if any, not later than March 11, 2005.

ADDRESSES: Written objections are to be filed with the Naval Research Laboratory, Code 1004, 4555 Overlook Avenue, SW., Washington, DC 20375-5320.

FOR FURTHER INFORMATION CONTACT: Ms. Jane Kuhl, Head, Technology Transfer Office, NRL Code 1004, 4555 Overlook Avenue, SW., Washington, DC 20375-5320, telephone (202) 767-3083.

Due to U.S. Postal delays, please fax (202) 404-7920, E-Mail: kuhl@utopia.nrl.navy.mil or use courier delivery to expedite response.

Authority: 35 U.S.C. 207, 37 CFR Part 404.

Dated: February 17, 2005.
I.C. Le Moyne, Jr.,
Lieutenant, Judge Advocate General's Corps, U.S. Navy, Alternate Federal Register Liaison Officer.

[FR Doc. 05-3540 Filed 2-23-05; 8:45 am]

BILLING CODE 3810-FF-U